DEPARTMENT OF VETERANS AFFAIRS

38 CFR Part 17

Expanded Access to Non-VA Care Through the Veterans Choice Program; Correction

AGENCY: Department of Veterans Affairs.

ACTION: Interim final rule; correcting amendment.

SUMMARY: The Department of Veterans Affairs published in the Federal Register of December 1, 2015, a document amending its medical regulations that implement section 101 of the Veterans Access, Choice, and Accountability Act of 2014. In that rule, two paragraphs were inadvertently removed. This document corrects that error.

DATES: Effective on April 25, 2016.

FOR FURTHER INFORMATION CONTACT: Kristin J. Cunningham, Veterans Health Administration, (202) 382-2508 (this is not a toll-free number).

SUPPLEMENTARY INFORMATION: The Department of Veterans Affairs (VA) published in the Federal Register of December 1, 2015, a document amending its medical regulations that implement section 101 of the Veterans Access, Choice, and Accountability Act of 2014. 80 FR 74991. Inadvertently paragraphs (a)(1) and (a)(2) of 38 CFR 17.1530 were removed. This document corrects that error.

List of Subjects in 38 CFR Part 17

Administrative practice and procedure, Alcohol abuse, Alcoholism, Claims, Day care, Dental health, Drug abuse, Government contracts, Grant programs-health, Grant programs-veterans, Health care, Health facilities, Health professions, Health records, Homeless, Mental health programs, Nursing homes, Reporting and recordkeeping requirements, Travel and transportation expenses, Veterans.

For reasons set forth in the preamble, the Department of Veterans Affairs amends 38 CFR part 17 with the following correcting amendment:

PART 17—MEDICAL

1. The authority citation for part 17 continues to reads as follows:

Authority: 38 U.S.C. 501, and as noted in specific sections.

2. In § 17.1530, add paragraphs (a)(1) and (2) to read as follows:

§ 17.1530 Eligible entities and providers.

(a) * * *

(1) Not a part of, or an employee of, VA; or

(2) If the provider is an employee of VA, is not acting within the scope of such employment while providing hospital care or medical services through the Veterans Choice Program.

* * * * *

Dated: April 19, 2016.
William F. Russo,
Office of Regulation Policy & Management, Office of the General Counsel.

[FR Doc. 2016-09475 Filed 4-22-16; 8:45 am]

BILLING CODE 8320-01-P